DEPARTMENT OF LABOR

Employment and Training Administration

[TA-W-38,271]

Shipley Ronal, Inc. Freeport, New York; Notice of Termination of Investigation

Pursuant to section 221 of the Trade Act of 1974, an investigation was initiated on October 30, 2000, in response to a petition filed on behalf of workers at Shipley Ronal, Inc., Freeport, New York.

A negative determination applicable to the petitioning group of workers was issued on October 4, 2000 (TA-W-38,050). No new information is evident which would result in a reversal of the Department's previous determination (the company closed December 21, 1999). Consequently, further investigation in this case would serve no purpose; and the investigation has been terminated.

Signed at Washington, DC this 7th day of November 2000.
Linda G. Poole,
Certifying Officer, Division of Trade Adjustment Assistance.

[FR Doc. 00-30620 Filed 11-30-00; 8:45 am]

BILLING CODE 4510-50-M